DEPARTMENT OF COMMERCE

Foreign-Trade Zones Board

[Order No. 1670]

Expansion of Foreign-Trade Zone 26, Atlanta, Georgia, Area

Pursuant to its authority under the Foreign-Trade Zones Act of June 18, 1934, as amended (19 U.S.C. 81a-81u), the Foreign-Trade Zones Board (the Board) adopts the following Order:

Whereas, the Georgia Foreign-Trade Zone, Inc., grantee of Foreign-Trade Zone 26, submitted an application to the Board for authority to expand its zone to add proposed Site 18 in the Atlanta, Georgia, area, within the Atlanta Customs and Border Protection port of entry (FTZ Docket 55-2008, filed 10/6/08);

Whereas, notice inviting public comment was given in the Federal Register (73 FR 60676-60677, 10/14/08; correction, 73 FR 63675, 10/27/08) and the application has been processed pursuant to the FTZ Act and the Board's regulations; and,

Whereas, the Board adopts the findings and recommendation of the examiner's report (including addendum), and finds that the requirements of the FTZ Act and Board's regulations are satisfied, and that the approval of proposed Site 18 is in the public interest;

Now, therefore, the Board hereby orders:

The application to expand FTZ 26 to add proposed Site 18 is approved, subject to the FTZ Act and the Board's regulations, including Section 400.28, and to the Board's standard 2,000-acre activation limit for the overall general-purpose zone project, and further subject to a sunset provision that would terminate authority on March 31, 2015, if no activity under FTZ procedures has occurred at Site 18 before that date.

Signed at Washington, DC, this 12th day of March 2010.

Ronald K. Lorentzen,
Deputy Assistant Secretary for Import Administration, Alternate Chairman, Foreign-Trade Zones Board.
Attest:
Andrew McGilvray,
Executive Secretary.

[FR Doc. 2010-6897 Filed 3-26-10; 8:45 am]

BILLING CODE 3510-DS-S